DEPARTMENT OF LABOR

Employment and Training Administration

[TA-W-64,542]

Mannatech, Inc., Coppell, TX; Notice of Termination of Investigation

Pursuant to Section 221 of the Trade Act of 1974, as amended, an investigation was initiated on November 26, 2008 in response to a petition filed by workers at Mannatech, Inc., Coppell, Texas.

The petitioning group of workers is covered by an earlier petition (TA-W-64,511) filed on November 21, 2008 that is the subject of an ongoing investigation for which a determination has not yet been issued. Further investigation in this case would duplicate efforts and serve no purpose; therefore the investigation under this petition has been terminated.

Signed at Washington, DC, this 30th day of December 2008.
Richard Church,
Certifying Officer, Division of Trade Adjustment Assistance.

[FR Doc. E9-643 Filed 1-13-09; 8:45 am]

BILLING CODE 4510-FN-P